DEPARTMENT OF JUSTICE

Office of Juvenile Justice and Delinquency Prevention

[OJP (OJJDP)-1360]

Program Announcement for the National Training and Technical Assistance Program for Tribal Youth Program Grantees, American Indian Tribes, and Alaska Native Communities

AGENCY: Office of Juvenile Justice and Delinquency Prevention, Office of Justice Programs, Justice.

ACTION: Notice of solicitation.

SUMMARY: The Office of Juvenile Justice and Delinquency Prevention (OJJDP) is requesting applications for the National Training and Technical Assistance Program for Tribal Youth Program Grantees, American Indian Tribes, and Alaska Native Communities. The recipient of this award will provide training and technical assistance to enhance the capacity of Tribal Youth Program grantees and American Indian and Alaska Native communities to develop and implement comprehensive systemwide approaches that prevent, reduce, and control juvenile delinquency, thereby increasing the overall safety of tribal communities.

DATES: Applications must be received by September 3, 2002.

Application Kit: Interested applicants can obtain the OJJDP Application Kit by calling the Juvenile Justice Clearinghouse at 800-638-8736, by sending an e-mail request to puborder@ncjrs.org, or through fax-on-demand. (For fax-on-demand, call 800-638-8736, select option 1, then select option 2 and enter the following four-digit numbers: 9119, 9120, 9121, and 9122. Application kits will be faxed in four sections because of the number of pages.) The Application Kit is also available online at www.ncjrs.org/pdffiles1/ojjdp/s1000480.pdf.

Delivery Instructions: All applicants must submit the original application (signed in blue ink) and five copies. Applications should be unbound and fastened by a binder clip in the top left-hand corner. (See “Delivery Instructions” below for additional information.)

OJJDP strongly recommends that applicants number each page of the application. To ensure that applications are received by the due date, applicants should use a mail service that documents the date of receipt. Because OJJDP anticipates sending applicants written notification of application receipt approximately 4 weeks after the solicitation closing date, applicants are encouraged to use a traceable shipping method. Faxed or e-mailed applications will not be accepted. Postmark dates will not be accepted as proof of meeting the deadline. Applications received after September 3, 2002, will be deemed late and may not be accepted. The closing date and time apply to all applications. To ensure prompt delivery, please adhere to the following guidelines:

Applications sent by U.S. mail: Use registered mail to send applications to the following address: Office of Juvenile Justice and Delinquency Prevention, c/o Juvenile Justice Resource Center, 2277 Research Boulevard, Mail Stop 2K, Rockville, MD 20850. In the lower left-hand corner of the envelope, clearly write “Tribal Training and Technical Assistance Program.”

Applications sent by overnight delivery service: Allow at least 48 hours for delivery. Send applications to the following address: Office of Juvenile Justice and Delinquency Prevention, c/o Juvenile Justice Resource Center, 2277 Research Boulevard, Mail Stop 2K, Rockville, MD 20850; 800-638-8736 (phone number required by some carriers). In the lower left-hand corner of the envelope, clearly write “Tribal Training and Technical Assistance Program.”

Applications delivered by hand: Deliver by September 3, 2002, to the Juvenile Justice Resource Center, 2277 Research Boulevard, Rockville, MD 20850; 301-519-5535. Hand deliveries will be accepted daily between 8:30 a.m. and 5 p.m., ET, excluding Saturdays, Sundays, and Federal holidays. Entrance to the resource center requires proper photo identification.

FOR FURTHER INFORMATION, CONTACT: Jayme S. Marshall, Training and Technical Assistance Division, Office of Juvenile Justice and Delinquency Prevention, 202-616-7614. (This is not a toll-free number.)

SUPPLEMENTARY INFORMATION:

Purpose

The purpose of the National Training and Technical Assistance Program for Tribal Youth Program Grantees, American Indian Tribes, and Alaska Native Communities (hereafter referred to as the Tribal Training and Technical Assistance Program) is to provide training and technical assistance to the grantees of the Office of Juvenile Justice and Delinquency Prevention's (OJJDP's) Tribal Youth Program (TYP); American Indian tribes, as defined in 25 U.S.C. 450(b)e; and Alaska Native communities (hereafter collectively referred to as tribal communities). The Tribal Training and Technical Assistance Program is designed to help tribal communities develop comprehensive, systemic approaches to reducing juvenile delinquency, violence, and child victimization and to increasing the safety of tribal communities.

Background

Although, in general, U.S. crime rates have been decreasing, self-reported data from crime victims indicate that the 1.9 million American Indians living in the United States are victims of violent crime at more than twice the rate of other U.S. residents.¹ In recent years, as the American Indian population has expanded, youth violence in tribal communities has grown. Of particular concern to American Indian tribes and OJJDP is the increasing number of violent crimes committed by juveniles in tribal communities, and research shows that this concern is warranted. For example, the Bureau of Justice Statistics has reported the following findings:

¹ Greenfeld, L.A., and Smith, S. 1999. American Indians and Crime. Washington, DC: U.S. Department of Justice, Office of Justice Programs, Bureau of Justice Statistics.

• In more than two-thirds of cases involving family violence, the assailant was under the influence of alcohol.²

² Id. at 10.

• According to 1995 data, there was approximately 1 substantiated report of child abuse or neglect for every 30 American Indian children age 14 or younger. For all races, the rate was approximately 1 report of abuse for every 58 children.

• For alcohol-related offenses, including driving under the influence, liquor law violations, and public drunkenness, the arrest rate for American Indians was more than double that for all other races.³

³ Id. at vii.

• American Indians younger than 18 were incarcerated for alcohol-related offenses at twice the national rate.⁴

⁴ Id. at 25.

• Between 1996 and 2001, the number of American Indian inmates in the custody of the Bureau of Prisons increased 84 percent (from 1,276 to 2,348 inmates). During that same time, the number of American Indian juveniles in Federal custody increased 82 percent (from 103 to 187 inmates).

American Indian tribes and Alaska Native communities need comprehensive approaches to prevent juvenile delinquency and to improve tribal juvenile justice systems. With this goal in mind, OJJDP is supporting innovative programs, creative strategies, and culturally appropriate programming to assist tribal youth and their families.

Authorization of Appropriations

OJJDP is authorized to fund the Tribal Training and Technical Assistance Program through the FY 2002 Commerce, Justice, and State Appropriations Act, Pub. L. 107-77, which appropriated $472 million to support and enhance tribal efforts to prevent and control delinquency and to improve the juvenile justice system for tribal youth. Of the $472 million appropriated, $1.25 million will support program-related research, evaluation, and statistics; $250,000 will provide training and technical assistance to tribal programs; $8 million will be used for discretionary grants; $1 million will fund programs that support the TYP Mental Health Initiative; and the remaining funds will be used to enhance other tribal efforts and TYP support. An additional $550,000 of Part C Discretionary Funds will supplement the $250,000 for the general technical and training assistance budget to ensure that American Indian tribes other than TYP grantees have access to and receive services that address comprehensive delinquency prevention and control for juvenile justice system improvement.

Tribal Youth Program and Other Juvenile Justice Activities in Indian Country

OJJDP supports several programs that help tribal communities address juvenile crime. TYP funds enable tribal communities to develop programs that prevent and control juvenile delinquency, reduce violent crime, and improve tribal juvenile justice systems. TYP grant recipients, who receive funds directly from OJJDP, and are required to use their grant funds to implement programs within one or more of the five categories that are listed under “Performance Measurement.”

OJJDP encourages TYP grantees to design culturally based programs and to incorporate traditional practices, where appropriate. When designing juvenile delinquency prevention, intervention, and system improvement activities, grantees are asked to consider the roles of children, parents, and elders in their communities. OJJDP also recommends that grantees involve tribal youth when planning and implementing program activities. Because each tribe is unique, TYP grantees differ in their approaches, needs, and regional perspectives (e.g., rural, rural remote, or urban). Grantees also vary by the size of their service populations, which range from 2,000 or fewer individuals who reside on or near a reservation to 10,000 or more residents.

Another OJJDP initiative that assists tribal communities is the Comprehensive Indian Resources for Community and Law Enforcement (CIRCLE) Program. Through CIRCLE, OJJDP provides financial support and technical assistance to participating tribal governments (the Oglala Sioux Tribe, the Northern Cheyenne Tribe, and the Pueblo of Zuni) for juvenile delinquency prevention and control programs; crime prevention efforts; victim services; effective community policing services; criminal investigation; prosecutorial, tribal court, and probation services; and detention and alternative sentencing programs. Tribes also have been active in other OJJDP initiatives, including the Juvenile Mentoring Program, Safe Schools/Healthy Students, and the Enforcing the Underage Drinking Laws Program.

In addition, OJJDP has funded a number of other innovative solutions to combat juvenile delinquency and crime in Indian Country. Varied in design, these culturally based programs provide interventions for court-involved youth and their families, improve tribal justice systems, and provide prevention programs that focus on alcohol and other drugs.

Initially funded in fiscal year (FY) 1998, the Tribal Youth Training and Technical Assistance Program provides services to TYP grantees and other tribal communities. During the program's first 4 years of operation, requests for training and technical assistance steadily increased, to over 120 requests in 2001. The programmatic areas that generated the most requests were juvenile justice system improvement, substance abuse prevention, reentry programs, family strengthening, conflict resolution, indigenous justice, gang prevention, and delinquency prevention.

Goal

The goal of the Tribal Training and Technical Assistance Program is to enhance the capacity of TYP grantees and American Indian and Alaska Native communities to develop and implement comprehensive systemwide approaches that prevent, reduce, and control juvenile delinquency, thereby increasing the overall safety of tribal communities.

Objectives

The objectives of this training and technical assistance program are as follows:

• To assess the national training and technical assistance needs of tribal communities related to juvenile justice and delinquency prevention and to recommend a delivery strategy to OJJDP.

• To develop, implement, and enhance training, technical assistance, and evaluation materials and activities.

• To provide technical assistance to TYP grantees and American Indian and Alaska Native communities that builds their capacity to assess tribal needs, conduct strategic planning, implement appropriate programs, and evaluate program effectiveness.

• To provide tribes with local and regional training that will enhance their knowledge and skills.

• To create and maintain a Web-based, technical assistance system capable of managing all aspects of a state-of-the-art technical assistance and training program.

• To develop guidance documents and products that support the capacity building of TYP grantees and American Indian and Alaska Native communities.

Performance Measurement

To ensure compliance with the Government Performance and Results Act (GPRA), Pub. L. 103-62, this solicitation notifies applicants that they are required to collect and report on data that measure the results of the program implemented by this grant. To ensure the accountability of this data (for which the Office of Justice Programs [OJP] is responsible), the following performance measures are provided.

The grantee will report on the number of training and technical assistance deliveries provided to tribes that are implementing programs within the following categories:

• Category I: To reduce, control, and prevent crime and other delinquent acts committed by and against tribal youth.

• Category II: To provide interventions for court-involved tribal youth.

• Category III: To improve tribal juvenile justice systems.

• Category IV: To provide prevention programs that focus on alcohol and drugs.

• Category V: To address the need for comprehensive mental health services for American Indian and Alaska Native youth.

In addition, the grantee will be responsible for:

1. The annual number of onsite training sessions delivered to tribes.

2. The annual number of technical assistance deliveries provided to tribes.

3. A specific number of products (e.g., handbooks, publications, toolkits) developed to enhance and/or transfer knowledge to and build the capacity of tribes by identifying best practices for the field. The grantee will be responsible for tracking these products.

Should program expansion or a formal evaluation be undertaken in the future, performance data collected will provide crucial baseline information regarding the efforts of the Tribal Training and Technical Assistance Program. Assistance in obtaining this information will facilitate future program planning and will allow OJP to provide Congress with measurable program results of federally funded programs.

Program Strategy

OJJDP will competitively select an organization to implement the Tribal Training and Technical Assistance Program. A cooperative agreement will be awarded for a 4-year program period. Applicants must demonstrate (1) the ability to develop and direct an OJJDP-based training and technical assistance program; (2) expertise in juvenile justice; (3) a working knowledge of Federal, State, tribal, and local relations; (4) an understanding of how tribal governments relate to juveniles; (5) a working knowledge of law enforcement and tribal justice systems; and (6) an understanding of and sensitivity to the complexities of tribal culture and indigenous justice systems. Successful applicants must have substantial experience in producing, modifying, and/or updating a wide range of practical resource materials and curriculums. Also required is experience in assessing personnel and organizational training needs and in providing onsite technical assistance to address issues described in this solicitation.

The Tribal Training and Technical Assistance Program will provide services to support the development, planning, and implementation of innovative solutions that address juvenile delinquency in Indian Country. Through this program, TYP grantees and American Indian and Alaska Native communities will be able to receive assistance to develop or enhance their juvenile justice systems. This broad scope will enable the training and technical assistance provider to offer services to federally recognized tribes and tribal communities that are seeking to improve juvenile delinquency prevention programs or other juvenile justice services.

For many reasons, providing training and technical assistance to tribal communities can be challenging. As of 2002, there are 562 federally recognized American Indian tribes,⁵ approximately half of which operate and manage their own juvenile justice systems. Other tribes may address juvenile justice and child welfare matters through arrangements with other tribal, county, and/or State juvenile justice systems, especially in jurisdictions governed by Pub. L. 83-280.⁶ OJJDP expects the technical assistance provider to understand the importance and complexities of tribal culture and indigenous justice systems and to recognize that American Indian and Alaska Native communities may operate under very different systems of justice. For example, some tribes may have their own juvenile justice systems, whereas others may operate through local, county, or State systems. The training and technical assistance provider will often collaborate with several agencies to coordinate their efforts to address the needs of tribal communities.

⁵ A complete list of the federally recognized tribes will be published in an upcoming issue of the Federal Register.

⁶ In States governed by 18 U.S.C. 1162 (Pub. L. 280), such as California and Alaska, baseline law enforcement services are provided by the State, and American Indian tribes have concurrent authority over crimes by American Indians.

As an additional challenge, many tribal communities are geographically isolated, and some can only be reached by unconventional methods of transportation. It is not uncommon, for example, to find tribal communities in Alaska that are accessible only by snowmobile, boat, or amphibious plane. Some tribal communities, even though they are located within the contiguous United States, can only be reached by driving several hundred miles on unpaved roads. Geographic isolation affects the level of services that are needed, such as access to information and technology. Tribes located near towns or urban areas are more likely to have access to current information and technology. Tribal officials in these areas also may find it easier to network with other tribal and juvenile justice practitioners.

Training and technical assistance needs vary considerably by tribe. Some tribes have been actively involved in delinquency prevention efforts and need assistance in improving their programs, whereas others are just beginning to address juvenile crime and need help starting the process to reform or develop their juvenile justice systems. In many tribal communities, access to educational opportunities is limited; community members often need basic training in report writing, grant writing, and program, project, and financial management.

In every case, training and technical assistance services must be provided in a culturally sensitive manner by individuals who understand and appreciate tribal history and customs, recognize the importance of indigenous justice systems, and understand juvenile justice issues. Given the various needs of, and services available in, tribal communities, the provider must be knowledgeable about a breadth of topics, including legal and social issues and promising programs that have proven effective with tribal youth. Successful applicants will be expected to build on the previous accomplishments and activities of the program and to institute a seamless transition. To ensure that quality services will be delivered to the greatest possible number of TYP grantees and American Indian and Alaska Native communities, OJJDP intends to select a training and technical assistance provider that has the knowledge and skills necessary to maximize the impact of the program.

Deliverables

In addition to the strategy and content of the program design, the following deliverables must be completed during year 1. Subsequent deliverables will be developed annually according to need and funding ability.

Year 1

• Develop a transition work plan that describes how data, materials, and processes from the current service provider will be incorporated into the new program approach, including the collaboration and interface needed during the startup phase.

• Develop a national needs assessment of federally recognized tribes using multiple approaches and translate the findings into a report entitled Tribal Technical Assistance Needs: Recommended Response By Program Year.

• Develop a strategic plan (including timelines, performance measures, and benchmarks for measuring internal progress) that specifies which activities will be conducted to achieve the program goals and objectives.

• Develop a program marketing plan that outlines the development of products and materials that will inform TYP grantees and American Indian and Alaska Native communities of the available training and technical assistance services.

• Develop training, technical assistance, and evaluation protocols based on the OJJDP Core Performance Standards to ensure consistency and quality of service delivery. These standards present the minimum expectations that must be met for effective practice in the planning, delivery, and evaluation of training and technical assistance. This resource and others are available through OJJDP's National Training and Technical Assistance Center (www.nttac.org).

• Develop a Web-based training and technical assistance tracking system that reports all technical assistance services (i.e., offsite, onsite, multitribe) and includes online request functions, approval status, dates, locations, consultant selections, estimated costs, evaluation data, curriculums, and reports.

• Deliver a minimum of 200 working days of onsite technical assistance in response to site visit findings, grantee work plans, and direct requests made by tribes. (Note: A working day is defined as 6 hours of service.)

• Deliver a minimum of 300 working days of offsite technical assistance, including written, verbal, and electronic information and disseminated materials, as required.

• Deliver a minimum of 100 working days of multitribal technical assistance activities that involve the participation of clusters of tribes and others in information dissemination and sharing.

• Conduct 2 focus groups on topics to be determined for a minimum of 20 participants. (Note: Expenses for participant travel will be paid out of the service provider's budget.)

• Develop a minimum of four guidance documents or products about current issues, lessons learned from other tribes, current research, and other information that may help tribes improve their juvenile justice and delinquency prevention programs and systems.

• Develop marketing and informational materials about program services and events for distribution to TYP grantees and American Indian and Alaska Native communities.

• Provide logistical support, including expertise for the planning, implementation, and evaluation of an orientation conference for new grantees (a minimum of 80 participants).

• Provide logistical support, including expertise for the planning, implementation, and evaluation of 3 cluster meetings for TYP grantees (a minimum of 40 TYP grant participants per meeting).

• Conduct a minimum of four 2-day regional trainings on high-need topics for a minimum of 50 participants per site.

• Develop a database of tribal program profiles and program data elements that is capable of producing a wide array of special reports.

• Collect, study, review, and analyze the broad range of data and information obtained through this program, including grantee materials, site visit reports, technical assistance plans, technical assistance delivery reports, and proceedings of meetings and conferences.

• Coordinate with OJJDP to enhance and update the current TYP Web site to include distance learning and training technologies.

• Expand and update the listserv to maintain a system of monthly communications with tribes on current issues, funding possibilities, current research, and relevant information.

• Develop a directory of training and technical assistance experts who possess a variety of skills and abilities that are relevant to the tribal issues identified in the needs assessment. The experts used by the previous provider should be incorporated into the directory.

• Conduct a 2-day training of trainers, yielding a minimum of 25 experts, for delivering training and technical assistance services under this program. The training will cover policies, procedures, reporting, reimbursements, cultural considerations, and specific content areas. (Note: Expenses for participant travel will be paid out of the service provider's budget.)

• Analyze the training and technical assistance services and the evaluation results to prepare an annual report that recommends and prioritizes training and technical assistance services for year 2 and highlights unmet needs.

Applicants are encouraged to be realistic in estimating the cost of deliverables and in detailing the implementation schedule. Applicants also are encouraged to be innovative; OJJDP expects applicants to propose alternative approaches to the delivery of training and technical assistance to maximize resources.

Eligibility Requirements

OJJDP invites applications from public and private agencies, organizations, institutions, and individuals experienced in training and technical assistance efforts. Private, for-profit organizations must agree to waive any profit or fee. Joint applications from two or more eligible applicants are welcome; however, one applicant must be clearly designated as the primary applicant (for correspondence, award, and management purposes) and the others designated as co-applicants.

To be eligible for consideration, applicants must strictly adhere to the submission guidelines regarding page length, layout, and deadlines.

Selection Criteria

Applicants will be evaluated and rated by a peer review panel according to the criteria outlined below. Based on the highest scoring proposals, OJJDP may conduct onsite interviews with up to five applicants.

Problem(s) To Be Addressed (15 points)

Applicants must clearly demonstrate an understanding of training and technical assistance issues, the needs of tribal communities, and the issues relevant to tribal juvenile justice systems. Applicants must have a working knowledge of tribal government functions and law enforcement and tribal justice systems. In particular, applicants must demonstrate an understanding of juvenile delinquency in American Indian and Alaska Native communities and of the socioeconomic conditions that tribes face when responding to the needs of juveniles and their families. Applicants must also demonstrate an understanding of the importance of race and culture in administering justice-related services and programs. Applicants must be cognizant of intertribal relationships and must address the issues associated with providing technical assistance to American Indian tribes and Alaska Native communities whose boundaries encompass multiple jurisdictions involving local, county, State, and Federal governments. Applicants must demonstrate an understanding of tribal-local, State-local, and tribal-Federal relationships. Applicants must also demonstrate their understanding of the implications of sovereignty.

Goals and Objectives (15 points)

Applicants must provide succinct statements that demonstrate how the goals and objectives of the program will be addressed. The overall goal(s) of the program must be clearly defined and linked to the problems and needs of the target population (as described above in the “Problems To Be Addressed” section). The objectives must be clearly defined, measurable, obtainable, and described for each year of the 4-year program period. They should include quantifiable activities to ensure that applicants will meet the program goals. Applicants must submit plans for tracking and measuring their annual progress toward meeting each goal and objective. Special attention must be paid to the Performance Measurement section. A detailed discussion of how outcome measures will be achieved is expected.

Program Design (30 points)

Applicants must present a program design that is specific and constitutes an effective approach to meeting the goals and objectives of the program. The design must include a detailed work plan that describes specific tasks, procedures, timelines, milestones, and products to be completed. The design must indicate how program objectives will be met, how deliverables will be produced, and how both will be measured. The work plan should also include a cohesive, well-developed plan for providing information, products, and other materials to key players in the initiative, which include TYP grantees and federally recognized tribes. The design must provide protocols for assessing training and technical assistance needs and protocols to be used in the delivery and evaluation of services.

Applicants should include background data that justify the program design and implementation plan and describe a cohesive, well-thought-out plan for effectively providing knowledge and best practices to TYP grantees and American Indian tribes and Alaska Native communities. An application will be deemed competitive if it clearly identifies obstacles to achieving expected results and discusses plans for overcoming those impediments. In the interest of cost-effectiveness, OJJDP will consider recommendations for modifying and enhancing the products and services to be delivered. When such recommendations are made, justification and alternatives should be proposed.

Management and Organizational Capability (25 points)

Applicants must describe an organizational framework, a managerial structure, and a staffing approach that have the capacity to work effectively with tribes. Applicants must demonstrate their production and computer capabilities and describe how they (applicants) will meet the requirements for producing the required guides and curriculums and for reproducing program materials. Applicants must describe their knowledge of juvenile justice practices and their past involvement in working with tribes. A consultant pool of experts must be included with the résumés of staff. Assurances that these individuals will be available when the grant is awarded must be given. Résumés must reflect significant experience and expertise in curriculum design, the development of national training and technical assistance systems, juvenile justice and tribal issues, and other content areas relevant to the needs of this effort. Staff must have experience working with diverse tribes and be able to demonstrate sensitivity to variations in cultural characteristics.

Personnel working on an OJJDP-funded program must adhere to the requirements of the Office of Justice Program's Financial Guide, which contains the requirements that all grantees must adhere to when using Federal funds. Applicants are expected to discuss their understanding of chapter 3, “Conflicts of Interest,” and how they will ensure their compliance with its requirements.

Applicants must describe their organizational capability, including (1) a description of how the organization will manage an OJJDP training and technical assistance program, (2) an established history of delivering training and technical assistance at a national level, (3) a demonstrated capability to produce within a short timeframe a range of general and specific user-friendly and professional technical resource materials, and (4) a discussion of past performance working with tribes and any other involvement that demonstrates management capabilities.

Budget (15 points)

Applicants must provide a proposed budget that is complete, detailed, reasonable, and cost effective in relation to the activities to be undertaken. Applicants must budget clearly for curriculum design and development, training and technical assistance offerings, and other costs associated with this program. Expenses for planning regional workshops and for preparing related tangible training and technical assistance resources to support the tasks of this program (e.g., writing, editing, printing, and mailing curriculums and regional training announcements, registration materials, brochures, etc.) should be included in the budget. Expenses for participants attending training and technical assistance events will only be paid where indicated in the deliverables.

Format

The application must contain the following parts: (1) The application, (2) program summary, (3) program narrative, (4) budget and budget justification, and (5) appendixes. Each section should conform to the following specifications:

• The application must include all necessary forms provided in OJJDP's Application Kit, which is available through the Juvenile Justice Clearinghouse (JJC) (800-638-8736) or online at www.ncjrs.org/pdffiles1/ojjdp/s1000480.pdf.

• Each application must include a program summary that does not exceed 500 words.

• Each application must include a complete program narrative that does not exceed 40 pages, including charts, diagrams, and tables. The narrative should include applicants' response to the following selection criteria: Problem To Be Addressed, Goals and Objectives, Program Design, and Management and Organizational Capability.

• Each application must include a complete budget and accompanying budget justification. Applicants may choose to provide their own budget worksheet and justification, or they may use the worksheets provided in the Application Kit.

Applicants must include appendixes A—a program activity timeline; B—an organizational chart; C—résumés of key staff; and D—a capabilities statement.

Applications that do not include these appendixes will be disqualified. Applicants may include additional appendixes for other supporting materials.

The program summary and program narrative must be submitted on 8½-by 11-inch paper, double spaced, and printed in a 12-point font on one side of the page, with 1-inch margins on all sides. All text must be double spaced, including lists and bullets. Tables do not need to be double spaced, but they must be printed in a 12-point font and follow the 1-inch margin requirements. These requirements are necessary to maintain fair and uniform standards among all applicants. If the narrative does not conform to these standards, OJJDP will deem the application ineligible for consideration.

Award Period

This program will be funded as a cooperative agreement for 48 months in four 12-month budget periods. Funding after the initial budget period will depend on grantee performance, availability of funds, and other criteria established at the time of the initial award.

Award Amount

Up to $800,000 is available to support the award of a cooperative agreement to a single provider for the initial 12-month budget period.

Catalog of Federal Domestic Assistance (CFDA) Number

For this program, the CFDA number, which is required on Standard Form 424, Application for Federal Assistance, is 16.731. This form is included in OJJDP's Application Kit, which can be obtained by calling JJC at 800-638-8736 or by sending an e-mail request to puborder@ncjrs.org. The Application Kit is also available online at www.ncjrs.org/pdffiles1/ojjdp/s1000480.pdf.

Coordination of Federal Efforts

To encourage better coordination among Federal agencies in addressing State and local needs, the U.S. Department of Justice is requesting applicants to provide information on the following: (1) Active Federal grant award(s) supporting this or related efforts, including awards from the U.S. Department of Justice; (2) any pending application(s) for Federal funds for this or related efforts; and (3) plans for coordinating any funds described in items (1) and (2) with the funding sought by this application. For each Federal award, applicants must include the program or program title, the Federal grantor agency, the amount of the award, and a brief description of its purpose. “Related efforts” is defined for these purposes as one of the following:

• Efforts for the same purpose (i.e., the proposed award would supplement, expand, complement, or continue activities funded with other Federal grants).

• Another phase or component of the same program or program (e.g., to implement a planning effort funded by other Federal funds or to provide a substance abuse treatment or education component within a criminal justice program).

• Services of some kind (e.g., technical assistance, research, or evaluation) to the program or program described in the application.

Due Date

Applicants are responsible for ensuring that the original and five copies of the application package are received by 5 p.m. ET on September 3, 2002.

Contact

For further information, contact Jayme S. Marshall, Program Manager, Training and Technical Assistance Division, OJJDP, 202-616-7614, or send an e-mail inquiry to marshalj@ojp.usdoj.gov.

Dated: July 12, 2002.
J. Robert Flores,
Administrator, Office of Juvenile Justice and Delinquency Prevention.

[FR Doc. 02-18205 Filed 7-18-02; 8:45 am]

BILLING CODE 4410-18-P